DEPARTMENT OF DEFENSE

Corps of Engineers, Department of the Army

Intent To Prepare a Draft Tier II Environmental Impact Statement (DEIS) for the Savannah Harbor Expansion Project, Savannah, GA

AGENCY: U.S. Army Corps of Engineers, DOD.

ACTION: Notice of intent.

SUMMARY OF THE ACTION: The U.S. Army Corps of Engineers is the lead Federal agency for an evaluation of the deepening of the Federal Navigation Project at Savannah Harbor, Georgia, to ease current shipping constraints and to accommodate anticipated growth in commerce and vessel sizes. In the Water Resources Development Act of 1999, the U.S. Congress authorized deepening the navigation channel to a maximum depth of 48 feet Mean Low Water, subject to further studies and approval of those study results by four Federal agencies. Those additional studies are being conducted. The Savannah District intends to prepare a combined General Reevaluation Report and Tier II Environmental Impact Statement (EIS) to evaluate information concerning the economic feasibility and environmental acceptability of various methods of addressing the existing and expected future navigation problems. These documents will serve as the decision documents concerning implementation of the recently authorized harbor improvement. The other three Federal agencies—the Environmental Protection Agency (Region IV), the Department of Commerce (acting through the National Marine Fisheries Service), and the Department of the Interior (acting through the U.S. Fish and Wildlife Service)—have agreed to participate as Cooperating Agencies in the preparation of the Tier II EIS. The Georgia Ports Authority will also serve as a Cooperator in the EIS development process. In response to requirements of the National Environmental Policy Act, the Corps hereby notifies the public that it is beginning preparation of a Draft Tier II EIS.

FOR FURTHER INFORMATION CONTACT: Questions or written comments about the proposed action and DEIS should be provided by March 7, 2002 to: Mr. William Bailey at 912-652-5781, email address: shep@sas02.usace.army.mil, or at U.S. Army Corps of Engineers, Savannah District, ATTN: PD-E, Post Office Box 100, Savannah, Georgia 31402.

Background: Following the provisions of section 203 of the Water Resources Development Act of 1986, the Georgia Ports Authority conducted a feasibility study of various methods of improving navigation in Savannah Harbor and the expected environmental effects of those proposals. The U.S. Army Corps of Engineers adopted the documents prepared by the GPA and published a Draft EIS in May 1998 and a Final Tier I EIS in September 1998. After Congressional authorization of the proposed improvement (found in section 101(b)(9) of the Water Resources Development Act of 1999), the Corps completed the EIS process when it signed a Record Of Decision (ROD) in December 1999. The ROD incorporated the requirements for further technical evaluations that were outlined in the authorization.

After the authorization, the Georgia Ports Authority sought the views of local and regional stakeholders to define what additional studies they believe are needed to determine and fully describe the potential environmental effects of deepening the navigation channel. As those studies were identified, GPA began conducting those tasks. Further information on these GPA activities can be found at www.sysconn.com/harbor.

1. Proposed Action. The proposed action is development of an Environmental Impact Statement to describe the potential impacts of deepening the navigation channel at Savannah, Georgia, in increments from the existing depth of 42 feet Mean Low Water to a potential depth of 48 feet, including the effect of no channel deepening.

2. Alternatives. In addition to the “No Action” alternative, channel increments between the existing 42-foot depth and a depth of 48 feet will be evaluated. Other alternatives to accommodate trade growth will be considered. Among the potential alternatives are relocation of existing port facilities within the harbor, development of new port facilities elsewhere in the harbor, and transfer of cargo to other ports in the region. Mitigation plans will be prepared for each alternative considered in detail.

3. Scoping Process.

3.A. As part of its public outreach efforts, the Georgia Ports Authority conducted an information meeting in July 2000 to help it define studies that it would conduct during this second phase of the project. Comments provided to GPA at that time should be submitted to the Corps in response to this Notice to ensure their consideration as part of the Federal scoping process. GPA also met with representatives of natural resource agencies and local groups to obtain input to the studies to be conducted. The Corps has coordinated with the Environmental Protection Agency (Region IV), the National marine Fisheries Service, and the U.S. Fish and Wildlife Service concerning what issues should be addressed and what studies should be conducted during this Tier II evaluation. The Corps will conduct a separate additional scoping process to ensure that all issues are identified and included in the EIS.

3.B. The National Environmental Policy Act requires Federal agencies to involve the public in determining the scope of an EIS. Savannah District intends to conduct a public scoping meeting to inform the public of the issues it intends to consider in the EIS and to solicit further input from the public regarding any other issues that may need to be addressed. The Cooperating agencies have indicated they intend to participate in that scoping meeting. The meeting will also provide a forum for people to raise questions about the work done to date and plans for further analyses of all issues. The public is cordially invited to participate, provide input on issues being considered and to make recommendations to address issues not currently under consideration. All interests are invited to participate, including Federal, state, and local agencies, Indian tribes, and other interested private organizations and parties.

3.C. The issues currently under consideration are as follows:

A. Issues identified in the Tier I as requiring further study:

1. Impacts to the wetlands from changes in salinity, particularly wetlands located on the Savannah National Wildlife Refuge

2. Impacts to the endangered shortnose sturgeon from changes in salinity and dissolved oxygen

3. Impacts to striped bass spawning and nursery habitat from changes in salinity and other factors

4. Impacts to the City of Savannah's water intake from changes in chloride levels

5. Impacts to dissolved oxygen levels

B. Verification of the 3-Dimensional Hydrodynamic Model

C. Salinity Changes

D. Dissolved Oxygen

E. Chloride Levels

F. Striped Bass

G. Shortnose Sturgeon

H. Freshwater Wetlands

I. Saltwater Wetlands

J. TideGate Restoration

K. Cumulative Impacts from Previous Dredging

L. Closing Middle River

M. Fishery Management Plans

N. Anadromous Fish Populations

O. Other Fish Species; red drum, American shad, river herring

P. Essential Fish Habitat (EFH)

Q. Endangered Species Act Compliance

R. Management of Contaminated Sediments

S. Beach Erosion

T. Channel Slope Erosion

U. Fort Pulaski Erosion

V. Dissolved Oxygen/Fecal Coliform on Beaches

W. Agitation Dredging

X. Sand as a Resource

Y. Upstream Water Releases

Z. Project Economics

AA. U.S. Army Corps of Engineers Section 1135 Restoration Study

BB. U.S. Army Corps of Engineers Savannah River Comprehensive Study

CC. Bend Widener Impacts

DD. Fort Pulaski Impacts

EE. Dredged Material Disposal Capacity and Impacts

FF. Impacts on Adjacent South Carolina Properties

GG. Integration with the COE Savannah River Basin Comprehensive Water Resources Management Study

HH. Tidal Amplitude

II. Ballast Water

JJ. Drinking Water Aquifer

KK. Cultural and Historic Resources

LL. CSS Georgia Impacts

MM. Old Fort Jackson Impacts

NN. Impacts on Adjacent Georgia Properties

OO. Environmental Justice

PP. Multiport Analysis

QQ. Landside Infrastructure

RR. Alternate Methods to Improve Transportation Efficiencies

SS. Alternate Sites for Terminal Operations

TT. Consistency with Coastal Zone Management Plans

3.D. Environmental review and consultation requirements for this project include explicit approval by the Secretary of the Army, the Secretary of the Interior, the Secretary of Commerce, and the Administrator of the Environmental Protection Agency. Environmental reviews will also be needed from the following agencies or offices:

• US Fish and Wildlife Service (endangered species)

• US Fish and Wildlife Service—Savannah National Wildlife Refuge (use of refuge property)

• National Marine Fisheries Service (endangered species)

• Georgia Department of Natural Resources—Environmental Protection Division (water quality certification)

• Georgia Department of Natural Resources—Coastal Resources Division (coastal zone management consistency certification)

• Georgia State Historic Preservation Office (cultural and historic resources)

• South Carolina Department of Health and Environmental Control (water quality certification)

• South Carolina Department of Health and Environmental Control—Office of Ocean and Coastal Resource Management (coastal zone management consistency certification)

• South Carolina State Historic Preservation Office (cultural and historic resources)

In addition, the Fish and Wildlife Coordination Act requires full coordination of potential project impacts with Federal and state agencies responsible for management of fish and wildlife resources. Savannah District intends to meet several times with technical experts in these Federal and state natural resource agencies as part of this coordination process. Coordination is also required with the National Marine Fisheries Service for potential impacts to Essential Fish Habitat.

4. Scoping Meeting. The scoping meeting is scheduled for February 21, 2001, from 3 p.m. until 8:30 p.m. at the Savannah International Trade and Convention Center on Hutchinson Island in Savannah, Georgia.

5. Availability of the Draft EIS. The Draft Tier II EIS is presently scheduled for release in late 2004. However, that date may change. Notification of the availability of the document will be published in the Federal Register and in the local newspaper. A Public Notice will also be sent to individuals and organizations that have expressed interest in projects proposed in Savannah Harbor.

Dated: January 15, 2002.
Terry D. Stratton,
Acting Chief, Planning Division.

[FR Doc. 02-1448 Filed 1-18-02; 8:45 am]

BILLING CODE 3710-92-M